DEPARTMENT OF COMMERCE

National Oceanic and Atmospheric Administration

[RTID 0648-XA185]

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet June 10-12 and June 15-19, 2020, noting there will be no meetings on Saturday, June 13 and Sunday, June 14. The Pacific Council meeting will begin on Friday, June 12, 2020 at 8 a.m. Pacific Daylight Time (PDT), reconvening at 8 a.m. Monday, June 15, and each day through Friday, June 19, 2020. All meetings are open to the public, except a Closed Session will be held from 8 a.m. to 9 a.m., Friday, June 12, to address litigation and personnel matters. The Pacific Council will meet as late as necessary each day to complete its scheduled business.

ADDRESSES: Meetings of the Pacific Council and its advisory entities will be webinar only.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the proposed agenda and meeting briefing materials.

SUPPLEMENTARY INFORMATION: The June 12 and 15-19, 2020 meeting of the Pacific Council will be streamed live on the internet. The broadcasts begin initially at 9 a.m. PDT Friday, June 12, 2020 and continue at 8 a.m. Monday, June 15 daily through Friday, June 19. No meetings are scheduled for Saturday, June 13 through Sunday, June 14, 2020. Broadcasts end when business for the day is complete. Only the audio portion and presentations displayed on the screen at the Pacific Council meeting will be broadcast. The audio portion for the public is listen-only except that an opportunity for oral public comment will be provided prior to Council Action on each agenda item. You can attend the webinar online using a computer, tablet, or smart phone, using the webinar application. Specific meeting information, including directions on how to join the meeting and system requirements will be provided in the meeting announcement on the Pacific Council's website (see www.pcouncil.org). It is recommended that you use a computer headset to listen to the meeting, but you may use your telephone for the audio-only portion of the meeting.

The following items are on the Pacific Council agenda, but not necessarily in this order. Agenda items noted as “Final Action” refer to actions requiring the Council to transmit a proposed fishery management plan, proposed plan amendment, or proposed regulations to the U.S. Secretary of Commerce, under sections 304 or 305 of the Magnuson-Stevens Fishery Conservation and Management Act. Additional detail on agenda items, Council action, advisory entity meeting times, and meeting rooms are described in Agenda Item A.4, Proposed Council Meeting Agenda, and will be in the advance June 2020 briefing materials and posted on the Pacific Council website at www.pcouncil.org no later than Friday, May 22, 2020.

A. Call to Order

1. Opening Remarks

2. Roll Call

3. Executive Director's Report

4. Approve Agenda

B. Open Comment Period

1. Comments on Non-Agenda Items

C. Administrative Matters

1. National Marine Fisheries Service Report

2. Fiscal Matters

3. Approval of Council Meeting Record

4. Membership Appointments and Council Operating Procedures

5. Future Council Meeting Agenda and Workload Planning

D. Highly Migratory Species Management

1. International Management Activities

E. Salmon Management

1. Southern Oregon/Northern California Coast Coho Endangered Species Act (ESA) Consultation Update

2. Southern Resident Killer Whale (SRKW) ESA Consultation Update

3. Amendment 20: Annual Management Schedule and Boundary Change

F. Groundfish Management

1. Final Action to Adopt Management Measures and Exempted Fishing Permits for 2021-22 Fisheries

2 Stock Assessment Plan and Terms of Reference (TOR)—Final Action

3. Electronic Monitoring Program—Final Action

4. Inseason Adjustments—Final Action

G. Coastal Pelagic Species Management

1. Sardine Rebuilding Plan

Advisory Body Agendas

Advisory body agendas will include discussions of relevant issues that are on the Pacific Council agenda for this meeting and may also include issues that may be relevant to future Council meetings. Proposed advisory body agendas for this meeting will be available on the Pacific Council website https://www.pcouncil.org/ no later than Friday, May 22, 2020.

Schedule of Ancillary Meetings

Day 1—Wednesday, June 10, 2020

Coastal Pelagic Species Advisory Subpanel 8 a.m.

Coastal Pelagic Species Management Team 8 a.m.

Groundfish Management Team 8 a.m.

Habitat Committee 8 a.m.

Highly Migratory Species Advisory Subpanel 8 a.m.

Highly Migratory Species Management Team 8 a.m.

Scientific and Statistical Committee 8 a.m.

Day 2—Thursday, June 11, 2020

Coastal Pelagic Species Advisory Subpanel 8 a.m.

Coastal Pelagic Species Management Team 8 a.m.

Groundfish Advisory Subpanel 8 a.m.

Groundfish Management Team 8 a.m.

Habitat Committee 8 a.m.

Highly Migratory Species Advisory Subpanel 8 a.m.

Highly Migratory Species Management Team 8 a.m.

Scientific and Statistical Committee 8 a.m.

Day 3—Friday, June 12, 2020

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Enforcement Consultants 8 a.m.

* No meetings scheduled for Saturday, June 13 through Sunday, June 14, 2020.

Day 4—Monday, June 15, 2020

California State Delegation 7 a.m.

Oregon State Delegation 7 a.m.

Washington State Delegation 7 a.m.

Groundfish Advisory Subpanel 8 a.m.

Groundfish Management Team 8 a.m.

Enforcement Consultants As Necessary

Day 5—Tuesday, June 16, 2020

California State Delegation 7 a.m.

Oregon State Delegation 7 a.m.

Washington State Delegation 7 a.m.

Groundfish Advisory Subpanel 8 a.m.

Groundfish Management Team 8 a.m.

Enforcement Consultants As Necessary

Day 6—Wednesday, June 17, 2020

California State Delegation 7 a.m.

Oregon State Delegation 7 a.m.

Washington State Delegation 7 a.m.

Groundfish Advisory Subpanel 8 a.m.

Groundfish Management Team 8 a.m.

Enforcement Consultants As Necessary

Day 7—Thursday, June 18, 2020

California State Delegation 7 a.m.

Oregon State Delegation 7 a.m.

Washington State Delegation 7 a.m.

Groundfish Management Team 8 a.m.

Enforcement Consultants As Necessary

Day 8—Friday, June 19, 2020

California State Delegation 7 a.m.

Oregon State Delegation 7 a.m.

Washington State Delegation 7 a.m.

Although non-emergency issues not contained in this agenda may come before the Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2412 at least 10 business days prior to the meeting date.

Authority: 16 U.S.C. 1801 et seq.

Dated: May 19, 2020.
Tracey L. Thompson,
Acting Deputy Director, Office of Sustainable Fisheries, National Marine Fisheries Service.

[FR Doc. 2020-11087 Filed 5-21-20; 8:45 am]

BILLING CODE 3510-22-P